DEPARTMENT OF COMMERCE

International Trade Administration

[A-201-832, A-489-812]

Light-Walled Rectangular Pipe and Tube from Mexico and Turkey: Notice of Postponement of Preliminary Antidumping Duty Determinations

AGENCY: Import Administration, International Trade Administration, Department of Commerce.

ACTION: Notice of postponement of preliminary antidumping duty determinations in antidumping investigations.

EFFECTIVE DATE: February 5, 2004.

FOR FURTHER INFORMATION CONTACT: Maisha Cryor and Mark Manning at (202) 482-5831, (202) 482-5253, respectively; Office 4, Group 2, Import Administration, International Trade Administration, U.S. Department of Commerce, 14th Street and Constitution Avenue, NW., Washington, DC 20230.

SUMMARY: The Department of Commerce (the Department) is postponing the preliminary determinations in the antidumping investigations on light-walled rectangular pipe and tube from Mexico and Turkey from February 16, 2004, until April 6, 2004. This postponement is made pursuant to section 733(c)(1)(B) of the Tariff Act of 1930, as amended (the Act).

SUPPLEMENTARY INFORMATION:

Background

On September 29, 2003, the Department initiated the above-referenced investigations. See Notice of Initiation of Antidumping Duty Investigations: Light-Walled Rectangular Pipe and Tube from Mexico and Turkey, 68 FR 57667 (October 6, 2003).

Postponement of Preliminary Determination

Currently, the preliminary determinations are due no later than February 16, 2004. Under section 733(c)(1)(B) of the Act, the Department can extend the period for reaching a preliminary determination until not later than the 190th day after the date on which the administering authority initiates an investigation if:

(B) The administering authority concludes that the parties concerned are cooperating and determines that

(i) the case is extraordinarily complicated by reason of

(I) the number and complexity of the transactions to be investigated or adjustments to be considered;

(II) the novelty of the issues presented; or

(III) the number of firms whose activities must be investigated; and

(ii) additional time is necessary to make the preliminary determination.

The parties concerned are cooperating in these investigations. Additional time is necessary, however, to complete the preliminary determinations for Mexico and Turkey due to (1) the number and complexity of the transactions to be investigated and adjustments to be considered, (2) certain affiliation issues in both cases involving multiple respondents, and (3) the novelty of issues presented. Moreover, with respect to each Mexican respondent, the Department received, on January 9, 2004, allegations that sales were made below the cost of production during the period of investigation. We are currently reviewing these allegations. Therefore, for both investigations, additional time is required to review the issues and the cost information for purposes of the preliminary determinations.

Pursuant to section 733(c)(1)(B) of the Act, we have determined that these investigations are “extraordinarily complicated.” We are, therefore, postponing the preliminary determinations by 50 days to April 6, 2004.

This notice is issued and published pursuant to section 733(c)(2) of the Act and 19 CFR 351.205(f)(2).

Dated: January 28, 2004.
James J. Jochum,
Assistant Secretary for Import Administration.

[FR Doc. 04-2521 Filed 2-4-04; 8:45 am]

BILLING CODE 3510-DS-S